DEPARTMENT OF HOMELAND SECURITY

Coast Guard

33 CFR Parts 100 and 165

[CGD 13-04-029]

RIN 1625-AA08 and 1625-AA00

Special Local Regulation (SLR) and Safety Zone Regulations: Notice of Implementation for Seattle Seafair Unlimited Hydroplane Race and Blue Angels Air Show Performance 2004, Lake Washington, WA

AGENCY: Coast Guard, DHS.

ACTION: Notice of implementation of regulations.

SUMMARY: The Coast Guard announces enforcement periods for Seattle Seafair Unlimited Hydroplane Race Special Local Regulation (SLR) as per 33 CFR 100.1301 and Seafair Blue Angels Air Show Performance Safety Zone Regulation as per 33 CFR 165.1319. This year's events will be held on Wednesday, August 4, 2004, through Sunday, August 8, 2004.

DATES: 33 CFR 100.1301 and 33 CFR 165.1319 will be enforced from 8:30 a.m. to 4 p.m. Pacific daylight time each day August 4th, 5th, 6th, 7th, and 8th 2004.

FOR FURTHER INFORMATION CONTACT: Captain of the Port Puget Sound, at (206) 217-6232.

Dated: June 28, 2004.
Danny Ellis,
Captain, U.S. Coast Guard, Captain of the Port, Puget Sound.

[FR Doc. 04-15560 Filed 7-7-04; 8:45 am]

BILLING CODE 4910-15-P